DEPARTMENT OF THE INTERIOR

Bureau of Ocean Energy Management

[Docket No. BOEM-2016-0047; MMAA104000]

Outer Continental Shelf (OCS), Gulf of Mexico (GOM), Oil and Gas Lease Sales for 2018

AGENCY: Bureau of Ocean Energy Management (BOEM), Interior.

ACTION: Notice of intent to prepare a Supplemental Environmental Impact Statement.

SUMMARY: Consistent with the regulations implementing the National Environmental Policy Act (NEPA) (42 U.S.C. 4321 et seq.), BOEM is announcing its intent to prepare a Supplemental Environmental Impact Statement (EIS) for proposed GOM Lease Sales 250 and 251 (2018 GOM Lease Sales 250 and 251 Supplemental EIS) as scheduled in the 2017-2022 OCS Oil and Gas Leasing Proposed Program (2017-2022 Proposed Program). This Notice of Intent (NOI) serves to announce the EIS scoping process for the 2018 GOM Lease Sales 250 and 251 Supplemental EIS. The 2018 GOM Lease Sales 250 and 251 Supplemental EIS will tier from the 2017-2022 GOM Multisale EIS.

Section 18 of the OCS Lands Act (43 U.S.C. 1344) requires the development of an OCS oil and gas leasing program every five years. The Program sets forth a schedule of lease sales designed to best meet the Nation's energy needs. The lease sales proposed in the GOM in the 2017-2022 Proposed Program are areawide sales encompassing both the Western and Central Planning Areas, and a portion of the Eastern Planning Area not subject to Congressional moratorium. These planning areas are located off the States of Texas, Louisiana, Mississippi, Alabama, and Florida. By proposing lease sales that offer all available GOM acreage, BOEM seeks to provide more opportunity for industry to bid on rejected, relinquished, or expired OCS lease blocks and facilitate better planning to explore resources that straddle the U.S./Mexico boundary. During the pre-lease sale process, the size of any individual lease sale could be reduced, and a smaller area offered for leasing, should circumstances warrant. For example, an individual lease sale could be focused on a single GOM Planning Area as in the 2012-2017 OCS Oil and Gas Leasing Program.

SUPPLEMENTARY INFORMATION: Regulations implementing NEPA encourage agencies to analyze similar or related proposals in one EIS (40 CFR 1508.25). Since both lease sales would be held in 2018 and the ensuing OCS activities are similar, BOEM will prepare a single Supplemental EIS for two lease sales proposed to be held in the GOM in 2018 (Lease Sales 250 and 251). The 2018 GOM Lease Sales 250 and 251 Supplemental EIS will tier from the 2017-2022 GOM Multisale EIS and focus on new information released since the publication of the 2017-2022 GOM Multisale EIS. This EIS approach allows for subsequent NEPA analyses to focus on changes in the proposed lease sales and on new issues and information. Analyzing two proposed lease sales within one Supplemental EIS will eliminate the repetition of annual Supplemental EISs for each proposed lease sale. The resource estimates and scenario information for the Supplemental EIS will include a range that encompasses the resources and activities estimated for either or both of the proposed lease sales. At the completion of this Supplemental EIS process, a decision will be made for Lease Sale 250. Thereafter, a separate decision will be made for Lease Sale 251. No final decision will be made on any individual lease sale until the end of the Supplemental EIS process to allow for full consultation with Federal agencies, affected states, and the public.

The 2018 GOM Lease Sales 250 and 251 Supplemental EIS analysis will focus on the potential environmental effects from oil and natural gas leasing, exploration, development, and production on all available acreage in the GOM, including the Western and Central Planning Areas, and the portion of the Eastern Planning Area not subject to Congressional moratorium. In addition to the no action alternative (i.e., cancel the lease sale), other alternatives will be considered for each proposed lease sale, such as offering individual or multiple planning areas for lease or deferring certain areas from the proposed lease sales in addition to those alternatives considered in the 2017-2022 OCS Oil and Gas Leasing Proposed Program.

Scoping Process: This NOI serves to announce the scoping process for identifying issues and potential alternatives for consideration in the 2018 GOM Lease Sales 250 and 251 Supplemental EIS. Throughout the scoping process, Federal agencies, state, tribal, and local governments, and the general public have the opportunity to help BOEM determine significant resources and issues, impact-producing factors, reasonable alternatives, and potential mitigating measures to be analyzed in the Supplemental EIS and to provide additional information. BOEM will also use the NEPA commenting process to initiate the section 106 consultation process under the National Historic Preservation Act (54 U.S.C. 300101 et seq.), as provided in 36 CFR 800.2(d)(3).

Pursuant to the regulations implementing the provisions of NEPA (42 U.S.C. 4321 et seq.), BOEM will hold public scoping meetings for the 2018 GOM Lease Sales 250 and 251 Supplemental EIS. BOEM's scoping meetings will be held at the following places and times:

• Gulfport, Mississippi: Tuesday, September 6, 2016, Courtyard by Marriott, Gulfport Beachfront MS Hotel, 1600 East Beach Boulevard, Gulfport, Mississippi 39501; one meeting, beginning at 4:00 p.m. CDT and ending at 7:00 p.m. CDT;

• Mobile, Alabama: Wednesday, September 7, 2016, Renaissance Mobile Riverview Plaza Hotel, 64 South Water Street, Mobile, Alabama 36602; one meeting, beginning at 4:00 p.m. CDT and ending at 7:00 p.m. CDT;

• Houston, Texas: Tuesday, September 13, 2016, Houston Marriott North, 255 North Sam Houston Pkwy East, Houston, Texas 77060; one meeting, beginning at 4:00 p.m. CDT and ending at 7:00 p.m. CDT; and

• New Orleans, Louisiana: Thursday, September 15, 2016, Wyndham Garden New Orleans Airport, 6401 Veterans Memorial Blvd., Metairie, Louisiana 70003; one meeting, beginning at 4:00 p.m. CDT and ending at 7:00 p.m. CDT.

Cooperating Agencies: BOEM invites other Federal agencies, and state, tribal, and local governments to consider becoming cooperating agencies in the preparation of the 2018 GOM Lease Sales 250 and 251 Supplemental EIS. BOEM invites qualified government entities to inquire about cooperating agency status for this Supplemental EIS. Following the guidelines from the Council on Environmental Quality (CEQ), qualified agencies and governments are those with “jurisdiction by law or special expertise.” Potential cooperating agencies should consider their authority and capacity to assume the responsibilities of a cooperating agency and should remember that an agency's role in the environmental analysis neither enlarges nor diminishes the final decisionmaking authority of any other agency involved in the NEPA process. Upon request, BOEM will provide potential cooperating agencies with a written summary of expectations for cooperating agencies, including time schedules and critical action dates, milestones, responsibilities, scope and detail of cooperating agencies' contributions, and availability of predecisional information. BOEM anticipates this summary will form the basis for a Memorandum of Agreement between BOEM and any cooperating agency. Agencies should also consider the “Factors for Determining Cooperating Agency Status” in Attachment 1 to CEQ's January 30, 2002, Memorandum for the Heads of Federal Agencies: Cooperating Agencies in Implementing the Procedural Requirements of the National Environmental Policy Act. This document is available on the Internet at: http://energy.gov/sites/prod/files/nepapub/nepa_documents/RedDont/G-CEQ-CoopAgenciesImplem.pdf.

BOEM, as the lead agency, will not provide financial assistance to cooperating agencies. Even if an organization is not a cooperating agency, opportunities will exist to provide information and comments to BOEM during the normal public input stages of the NEPA process.

Comments: Federal agencies, tribal, state, and local governments, and other interested parties are requested to comment on the scope of the 2018 GOM Lease Sales 250 and 251 Supplemental EIS, significant issues that should be addressed, and alternatives that should be considered. Comments can be submitted in any of the following ways:

1. In written form enclosed in an envelope labeled “Comments on the 2018 GOM Lease Sales 250 and 251 Supplemental EIS” and mailed (or hand carried) to Mr. Gary D. Goeke, Chief, Environmental Assessment Section, Office of Environment (GM 623E), BOEM, Gulf of Mexico OCS Region, 1201 Elmwood Park Boulevard, New Orleans, Louisiana 70123-2394; or

2. Through the regulations.gov web portal: Navigate to http://www.regulations.gov and search for Docket No. BOEM-2016-0047. Click on the “Comment Now!” button to the right of the document link. Enter your information and comment, then click “Submit.”

BOEM does not consider anonymous comments. Please include your name and address as part of your submittal. BOEM makes all comments, including the names and addresses of respondents, available for public review during regular business hours. Individual respondents may request that BOEM withhold their names and/or addresses from the public record; however, BOEM cannot guarantee that it will be able to do so. If you wish your name and/or address to be withheld, you must state your preference prominently at the beginning of your comment. All submissions from organizations or businesses and from individuals identifying themselves as representatives or officials of organizations or businesses will be made available for public inspection in their entirety.

DATES: Comments should be submitted no later than September 19, 2016.

FOR FURTHER INFORMATION CONTACT: For information on the 2018 GOM Lease Sales 250 and 251 Supplemental EIS, the submission of comments, or BOEM's policies associated with this notice, please contact Mr. Gary D. Goeke, Chief, Environmental Assessment Section, Office of Environment (GM 623E), BOEM, Gulf of Mexico OCS Region, 1201 Elmwood Park Boulevard, New Orleans, Louisiana 70123-2394, telephone 504-736-3233.

Authority: This NOI is published pursuant to the regulations (40 CFR 1501.7) implementing the provisions of NEPA.

Dated: August 12, 2016.
Abigail Ross Hopper,
Director, Bureau of Ocean Energy Management.

[FR Doc. 2016-19861 Filed 8-18-16; 8:45 am]

BILLING CODE 4310-MR-P